ENVIRONMENTAL PROTECTION AGENCY

[FRL-8236-7]

Notice of Agreement for Recovery of Response Costs Pursuant to Section 122(H) of the Comprehensive Environmental Response, Compensation and Liability Act of 1980, as Amended

AGENCY: Environmental Protection Agency.

ACTION: Notice; request for public comment.

SUMMARY: In accordance with the Comprehensive Environmental Response, Compensation, and Liability Act of 1980, as amended, (“CERCLA”), notice is hereby given that a proposed agreement for recovery of response costs (“Proposed Agreement”) associated with the Modena Yard Superfund Site, Modena Borough and East Fallowfield Township, Chester County, Pennsylvania was executed by the Environmental Protection Agency (“EPA”) and is now subject to public comment, after which EPA may modify or withdraw its consent if comments received disclose facts or considerations which indicate that the Proposed Agreement is inappropriate, improper, or inadequate. The Proposed Agreement would resolve certain potential EPA claims under section 107 of CERCLA, against Connell Limited Partnership (“Settling Party”). The Proposed Agreement would require the Settling Party to, among other things, reimburse EPA $150,000 for response costs, including, but not limited to, removal oversight costs, incurred and to be incurred at the Site.

For thirty (30) days following the date of publication of this notice, the Agency will receive written comments relating to the Proposed Agreement. The Agency's response to any comments received will be available for public inspection at the U.S. Environmental Protection Agency, Region III, 1650 Arch Street, Philadelphia, PA 19103.

DATES: Comments must be submitted on or before December 1, 2006.

ADDRESSES: The Proposed Agreement and additional background information relating to the Proposed Agreement are available for public inspection at the U.S. Environmental Protection Agency, Region III, 1650 Arch Street, Philadelphia, PA 19103. A copy of the Proposed Agreement may be obtained from Robert S. Hasson (3RC41), Assistant Regional Counsel, U.S. Environmental Protection Agency, 1650 Arch Street, Philadelphia, PA 19103. Comments should reference the “Modena Yard Superfund Site, Proposed Agreement for Recovery of Response Costs” and “EPA Docket No. CERCLA-03-2006-0082,” and should be forwarded to Robert S. Hasson at the above address.

FOR FURTHER INFORMATION CONTACT: Robert S. Hasson (3RC41), U.S. Environmental Protection Agency, 1650 Arch Street, Philadelphia, PA 19103, Phone: (215) 814-2672.

Dated: October 23, 2006.
William T. Wisniewski,
Deputy Regional Administrator, Region III.

[FR Doc. E6-18408 Filed 10-31-06; 8:45 am]

BILLING CODE 6560-50-P